DEPARTMENT OF ENERGY

Bonneville Power Administration

Whistling Ridge Energy Project

AGENCY: Bonneville Power Administration (BPA), Department of Energy (DOE).

ACTION: Notice of Intent to prepare an Environmental Impact Statement (EIS) and floodplain and wetland involvement.

SUMMARY: This notice announces BPA's intention to prepare a joint National Environmental Policy Act (NEPA)/State Environmental Policy Act (SEPA) EIS with the Washington Energy Facility Site Evaluation Council (EFSEC) for a proposed 75 megawatt (MW) wind energy generation project to be located on 1,152 acres in Skamania County, Washington. This project, referred to as the Whistling Ridge Energy Project, has been proposed by Whistling Ridge Energy LLC (WRE or “applicant”). The joint EIS will address Washington EFSEC's proposed action of granting necessary permits and approvals for siting WRE's proposed project, as well as BPA's proposed action of allowing the electrical interconnection of WRE's proposed project to the Federal Columbia River Transmission System (FCRTS). BPA will act as the federal lead agency under NEPA and the Washington EFSEC will act as the state lead agency under SEPA.

In accordance with DOE regulations for compliance with floodplain and wetland environmental review requirements, BPA will prepare a floodplain and wetland assessment as necessary to avoid or minimize potential harm to or within any affected floodplains and wetlands. The assessment will be included in the EIS being prepared for the proposed project in accordance with the NEPA.

DATES: Written comments are due to the address below no later than May 18, 2009. Comments may also be made at an EIS scoping meeting to be held on May 6, 2009, at the address below.

ADDRESSES: Send letters with comments and suggestions on the proposed scope of the Whistling Ridge Energy Project Draft EIS (DOE/EIS-0419), and requests to be placed on the project mailing list, to Bonneville Power Administration, Public Affairs Office—DKC-7, P.O. Box 14428, Portland, OR 97293-4428. You may also call BPA's toll-free comment line at 1-800-622-4519, and record your comments, naming this project. Comments can be submitted online at: www.bpa.gov/comment.

On May 6, 2009, in Stevenson, Washington, a public meeting/scoping meeting will be held from 6:30 p.m. to 8:30 p.m. at the Rock Creek Center, 710 SW. Rock Creek Drive, Stevenson, Washington 98648. At this informal meeting, information, including maps, will be provided about the project, and members of the project team will be available to answer questions and accept oral and written comments.

FOR FURTHER INFORMATION CONTACT: Andrew M. Montaño, Bonneville Power Administration, KEC-4, P.O. Box 3621, Portland, Oregon 97208-3621; toll-free telephone number 1-800-282-3713; fax number 503-230-5699; e-mail address ammontano@bpa.gov.

SUPPLEMENTARY INFORMATION: WRE has proposed the 75-MW Whistling Ridge Energy Project on commercial forestland in an unincorporated area of Skamania County, Washington. The proposed wind energy generation facility, to be built and operated by WRE, would be located approximately 7 miles northwest of the City of White Salmon. The Project site is outside the Columbia Gorge National Scenic Area, and encompasses roughly 1,152 acres in Sections 5, 6, 7, 8, and 18 of Township 3 North, Range 10 East, and in Section 13 of Township 3 North, Range 9 East, Willamette Meridian.

The Project would consist of up to approximately 50, 1.2- to 2.5-MW wind turbines, as well as infrastructure such as newly-constructed and improved roads, transformers, underground collector lines, a substation, and an operations and maintenance (O&M) facility. Each turbine would be up to 426 feet tall (measured from the ground to the turbine blade tip), and would be mounted on a concrete pad. Spaced from 350 to 800 feet apart, the turbines would be grouped in strings of 3 to 21 turbines and connected by an underground electrical collector system. The turbines would operate at wind speeds ranging from 9 to 56 miles per hour (mph).

The electrical output of each string of turbines would be connected to the Project substation by underground collector cables. The Project substation would be built directly adjacent to an existing BPA transmission line interconnecting to the FCRTS.

WRE proposes that construction of the Project would begin in 2010. Access to the Project site would likely require improving some existing private logging roads and constructing several miles of new gravel roads on private land. During construction, about 330 workers would be employed. During its year-round operation, there would be eight to nine permanent full-time and/or part-time employees on the Operations and Maintenance staff. The Project is expected to function for at least 30 years.

Washington EFSEC has siting jurisdiction over WRE's proposed project. EFSEC has determined that it will prepare an EIS to analyze the potential environmental impacts of the proposed project. This EIS will inform EFSEC's decision whether or not to grant the necessary permits and approvals for siting WRE's proposed project.

BPA's Proposed Action: BPA has received a request from SDS Lumber Company (SDS) (parent company to WRE) to interconnect the proposed Project to the FCRTS. This request is referenced as Request No. G0108 in BPA's Generator Interconnection Queue. In order to allow this interconnection, BPA would need to grant the applicant's request for generation interconnection. Granting this request would involve offering contract terms to the applicant for this interconnection. Thus, BPA's proposed action is to offer contract terms for the proposed interconnection.

Alternatives Proposed for Consideration: The alternatives under consideration by BPA include the proposed action and a no-action alternative. For BPA, the proposed action alternative is to offer contract terms for the interconnection of the Project to BPA's transmission system. The no-action alternative is for BPA to deny WRE's request that BPA offer contract terms for this interconnection. The scoping process may help identify other alternatives suitable for consideration in the EIS.

Process to Date: WRE has filed an application for a site certificate to construct the Project. Surveys for sensitive plant and wildlife species and cultural resources were initiated in the spring of 2001 and have been ongoing. Scoping will help identify what additional studies will be needed for the Project and the interconnection.

Public Participation and Identification of Environmental Issues: The potential issues of concern identified for most wind projects include visual issues, noise levels, impacts to cultural resources, socio-economic ramifications, effects on rare plant and animal species, and impacts to wildlife, including migratory birds and bats. The joint EIS will assess these potential impacts for the proposed Project, as well as potential environmental impacts from the proposed interconnection. Other issues, identified during scoping, will also be addressed in the EIS.

When completed, a Draft EIS will be circulated for review and comment, and BPA and EFSEC will hold at least one combined public comment meeting for the Draft EIS. BPA and EFSEC will consider and respond in the Final EIS to comments received on the Draft EIS. BPA's subsequent decision will be documented in a Record of Decision.

Issued in Portland, Oregon, on April 13, 2009.
Stephen J. Wright,
Administrator and Chief Executive Officer.

[FR Doc. E9-9096 Filed 4-20-09; 8:45 am]

BILLING CODE 6450-01-P